DEPARTMENT OF TRANSPORTATION

Federal Aviation Administration

14 CFR Part 39

[Docket No. 99-SW-36-AD; Amendment 39-11733; AD 2000-10-09]

RIN 2120-AA64

Airworthiness Directives; Eurocopter France Model AS350B, BA, B1, B2, B3, D, and AS355E, F, F1, F2, and N Helicopters

AGENCY: Federal Aviation Administration, DOT.

ACTION: Final rule.

SUMMARY: This amendment adopts a new airworthiness directive (AD) for Eurocopter France Model AS350B, BA, B1, B2, B3, D, and AS355E, F, F1, F2, and N helicopters that requires replacing certain circuit breakers. This amendment is prompted by the discovery of the loss of electrical continuity between the terminals of an installed circuit breaker. The actions specified by this AD are intended to prevent loss of electrical power to the emergency flotation gear or other optional installations and subsequent loss of the helicopter emergency flotation capability.

DATES: Effective June 26, 2000.

The incorporation by reference of certain publications listed in the regulations is approved by the Director of the Federal Register as of June 26, 2000.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Carroll Wright, Aviation Safety Engineer, FAA, Rotorcraft Directorate, Rotorcraft Standards Staff, 2601 Meacham Blvd., Fort Worth, Texas 76137, telephone (817) 222-5120, fax (817) 222-5961.

SUPPLEMENTARY INFORMATION: A proposal to amend part 39 of the Federal Aviation Regulations (14 CFR part 39) to include an AD for Eurocopter France Model AS350B, BA, B1, B2, B3, D, and AS355E, F, F1, F2, and N helicopters was published in the Federal Register on February 23, 2000 (65 FR 8894). That action proposed to require inspecting Crouzet single-pole circuit breakers for proper operation; replacing any Crouzet single-pole circuit breaker that is not operating properly with an airworthy circuit breaker; and replacing all Crouzet single-pole circuit breakers with airworthy circuit breakers on or before July 1, 2000.

Interested persons have been afforded an opportunity to participate in the making of this amendment. No comments were received on the proposal or the FAA's determination of the cost to the public. The FAA has determined that air safety and the public interest require the adoption of the rule as proposed.

The FAA estimates that 150 helicopters of U.S. registry will be affected by this AD, that it will take approximately 0.25 work hour per helicopter to replace the circuit breakers, and that the average labor rate is $60 per work hour. Required parts will cost approximately $23 per helicopter. Based on these figures, the total cost impact of the AD on U.S. operators is estimated to be $5,700, assuming the replacement of 150 circuit breakers.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

AD 2000-10-09 Eurocopter France: Amendment 39-11733. Docket No. 99-SW-36-AD.

Applicability: Model AS350B, BA, B1, B2, B3, D, and AS355E, F, F1, F2, and N helicopters, with Crouzet single-pole circuit breaker, part numbers (P/N) 84 400 028, and P/N 84 400 031 through P/N 84 400 036, installed as part of any optional installations, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required as indicated, unless accomplished previously.

To prevent loss of electrical power to the emergency flotation gear or other optional installations and subsequent loss of the helicopter emergency flotation capability, accomplish the following:

(a) On or before 200 hours time-in-service or within the next 3 calendar months, whichever occurs first:

(1) For Model AS350B, BA, B1, B2, B3, and D helicopters, inspect and if inoperable, replace the Crouzet single-pole circuit breakers installed in the flotation gear unit assembly and other optional installations for electrical continuity in accordance with section 2.B. of the Accomplishment Instructions contained in Eurocopter France Service Bulletin (SB) No. 01.00.47, dated November 10, 1998, except disregard the compliance times stated in paragraph 2.B.2) of the SB.

(2) For Model AS355E, F, F1, F2, and N helicopters, inspect and if inoperable, replace the Crouzet single-pole circuit breakers installed in the flotation gear unit assembly and other optional installations for electrical continuity in accordance with section 2.B. of the Accomplishment Instructions contained in SB No. 01.00.44, dated November 10, 1998, except disregard the compliance times stated in paragraph 2.B.2) of the SB.

(b) On or before July 1, 2000, replace all Crouzet single-pole circuit breakers in accordance with section 2.B. of the Accomplishment Instructions of the applicable SB.

(c) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(d) Special flight permits may be issued in accordance with sections 21.197 and 21.199 of the Federal Aviation Regulations (14 CFR 21.197 and 21.199) to operate the helicopter to a location where the requirements of this AD can be accomplished.

(e) The inspection and modification shall be done in accordance with section 2.B. of the Accomplishment Instructions contained in Eurocopter France Service Bulletin No. 01.00.44 or No. 01.00.47, both dated November 10, 1998. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(f) This amendment becomes effective on June 26, 2000.

Note 3: The subject of this AD is addressed in Direction Generale De L'Aviation Civile (France) AD 98-510-055(A) for the Model AS 355 helicopters and AD 98-511-074(A) for the Model AS 350 helicopters. Both DGAC AD's are dated December 16, 1998.

Issued in Fort Worth, Texas, on May 9, 2000.
Henry A. Armstrong,
Manager, Rotorcraft Directorate, Aircraft Certification Service.

[FR Doc. 00-12352 Filed 5-19-00; 8:45 am]

BILLING CODE 4910-13-P